DEPARTMENT OF AGRICULTURE

Agricultural Marketing Service

[Doc. No. AMS-CP-20-0040]

Notice of Funds Availability (NOFA); Purchase of Fruit, Vegetable, Dairy, and Meat Products Due to COVID-19 National Emergency—USDA Food Box Distribution Program

AGENCY: Agricultural Marketing Service, USDA.

ACTION: Notice.

SUMMARY: The Agricultural Marketing Service (AMS) announces the availability of $3 billion in funds for the purchase and distribution of fresh produce and dairy and meat products for Americans facing challenges due to the COVID-19 national emergency. AMS is utilizing an existing commodity procurement infrastructure to streamline and expand delivery of fresh produce and dairy and meat products to non-profit and governmental organizations that can distribute the commodities to Americans in need. Interested entities may apply for program participation through AMS's solicitation process.

DATES: Invitations to submit proposals are expected to be issued within two weeks of the date of this notice.

FOR FURTHER INFORMATION CONTACT: Christopher Purdy, Associate Deputy Administrator, 1400 Independence Ave. SW, Washington, DC 20250, telephone 202-720-3209 or email: USDAFoodBoxDistributionProgram@usda.gov.

SUPPLEMENTARY INFORMATION: Section 1101(g) of the Families First Coronavirus Response Act provides: “During fiscal year 2020, the Secretary of Agriculture may purchase commodities for emergency distribution in any area of the United States during a public health emergency designation.” Under this authority, the Secretary has determined to use AMS to procure commodities for such use until the current health emergency is terminated. Part 18 of the Federal Acquisition Regulation (FAR) provides latitude in the acquisition process under a federally declared emergency. See 48 CFR part 18. The Secretary is using this authority to purchase fresh produce and dairy and meat products for delivery to non-profit and governmental organizations that can assist with distributing that food to Americans during the COVID-19 pandemic national emergency.

Among other responsibilities, AMS facilitates the marketing of American agricultural products through the purchase and delivery of 100 percent American grown and processed foods to recipients participating in Federal food and nutrition programs. By taking advantage of an existing commodity procurement infrastructure, AMS can expand the universe of program recipients. Regionally located vendors awarded AMS contracts under this emergency effort will promptly purchase, assemble, and deliver an estimated $3 billion in fresh fruits and vegetables and a variety of dairy and meat products to food banks, food pantries, churches, schools, community groups, and other non-profit and governmental organizations for distribution to Americans who need food. As well, this effort provides alternative outlets for American farmers whose normal outlets, such as restaurants and schools, are currently restricted as a result of the COVID-19 pandemic. These purchases will be in addition to normal AMS procurements for USDA domestic food and nutrition programs, which will continue.

Program Participation

The program will involve two private sector entities, suppliers and recipient 501(c)(3) entities, who will distribute food to individuals. Governmental organizations may also receive and distribute food to individuals. Prospective vendors will be invited to submit their responses to an AMS Request for Proposals (RFP). Recipient entities which may submit requests for food products to suppliers are any entity that provides to the supplier proof of its 501(c)(3) tax exempt status and who can, if requested by the Department of Agriculture, demonstrate that they have the operational and financial capability to receive, store, and distribute requested food items. Governmental organizations that submit requests must have similar operational and financial capability. Details about the RFP process will be communicated through future notices to the industry and publicized at www.ams.usda.gov/selling-food. It is anticipated that invitations to submit proposals will be issued within two weeks of the publication of this notice. AMS will award contracts with regionally located distributors in seven U.S. regions with the goal of targeted coverage within the United States. Distributors will supply a pre-approved portfolio of fresh fruit and vegetables and dairy and meat products in a box to non-profit and governmental organizations with the capacity to distribute the boxes to individuals in need. Additional details on the content of the food boxes will be outlined in the RFP, but are expected generally to include fruits, vegetables, and dairy and meat products. Guidelines for each commodity category will be provided on AMS's website. Distributors will provide a description of what they are able to provide and pricing for their specific commodities.

RFP responses must include a pricing proposal, a vendor past performance evaluation (see 48 CFR 15.305(a)(2)), and a technical proposal addressing factors and relevant subfactors. The relative importance of cost or price and all other evaluation factors will be communicated in the RFP.

RFP responses will be evaluated on three equally important technical factors:

1. How the prospective contractor's participation supports American agriculture and AMS's mission of facilitating agricultural marketing;

2. How the prospective contractor's distribution plan effectively maximizes the number of recipients served in a geographic location, including existing non-profit relationships and distribution channels; and

3. How the prospective contractor plans to ensure payments to subcontractors, and how they will document and provide evidence of deliveries.

Contract awardees will be issued a purchase order (PO) for each region to be served. The PO will be for a set dollar amount. As product is delivered to designated locations, awardees will submit invoices (including bills of lading) to AMS for review and approval. The vendor and contracting officer may negotiate potential extension of the contract and issuance of additional POs after the dollar amount of the original PO is reached.

Additional information about the COVID-19 national emergency food purchase effort and the application process is at: https://www.ams.usda.gov/selling-food.

Authority: Section 1101(g) of The Families First Coronavirus Response Act.

Bruce Summers,
Administrator, Agricultural Marketing Service.

[FR Doc. 2020-08979 Filed 4-24-20; 8:45 am]

BILLING CODE 3410-02-P